DEPARTMENT OF TRANSPORTATION

Office of the Secretary

[Docket No. DOT-OST-2024-0042]

Privacy Act of 1974; System of Records

AGENCY: Office of the Departmental Chief Information Officer, Office of the Secretary of Transportation, DOT.

ACTION: Notice of a modified system of records.

SUMMARY: In accordance with the Privacy Act of 1974, the Department of Transportation (DOT) proposes to update and reissue a Privacy Act System of Records (hereafter referred to as “Notice”) titled, “Department of Transportation, Federal Aviation Administration DOT/FAA 847 Aviation Records on Individuals.” This Notice covers records the FAA maintains for airman certification and training, safety inspections performed by the FAA, and actions under the FAA's compliance and enforcement program that are initiated against individuals who violate FAA statutes and regulations.

DATES: Submit comments on or before July 10, 2024. The Department may publish an amended Systems of Records Notice (hereafter “Notice”) in light of any comments received. This modified system will be effective immediately and the modified routine uses will be effective July 10, 2024.

ADDRESSES: You may submit comments, identified by docket number DOT-OST-2024-0042 by any of the following methods:

• Federal e-Rulemaking Portal: https://www.regulations.gov. Follow the instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal Holidays.

• Fax: (202) 493-2251.

Instructions: You must include the agency name and docket number DOT-OST-2024-0042. All comments received will be posted without change to https://www.regulations.gov, including any personal information provided.

Privacy Act: Anyone is able to search the electronic form of all comments received in any of our dockets by the name of the individual submitting the comment (or signing the comment, if submitted on behalf of an association, business, labor union, etc.). You may review the Department of Transportation's complete Privacy Act statement in the Federal Register published on April 11, 2000 (65 FR 19477-78), or you may visit http://DocketsInfo.dot.gov.

Docket: For access to the docket to read background documents or comments received, go to https://www.regulations.gov or to the street address listed above. Follow the online instructions for accessing the docket.

FOR FURTHER INFORMATION CONTACT: For questions, please contact: Karyn Gorman, Departmental Chief Privacy Officer, Privacy Office, Department of Transportation, Washington, DC 20590; privacy@dot.gov; or 202.366-3140.

SUPPLEMENTARY INFORMATION:

Notice Updates

This Notice update includes substantive changes to: system location, system manager, authorities, categories of individuals, categories of records, record source categories, routine uses of records maintained in the system, policies and practices for the retrieval of records, policies, and practices for retention and disposal of records, and record access procedures; and non-substantive changes to: administrative, technical and physical safeguards, contesting record procedures, and notification procedures. Additional updates include editorial changes to simplify and clarify language, reformatting the text of the previously published Notice to align with the requirements of the Office of Management and Budget Circular (OMB) A-108, and to ensure consistency with other notices issued by the DOT.

Background

In accordance with the Privacy Act of 1974, 5 U.S.C. 552a, the Department of Transportation (DOT)/Federal Aviation Administration (FAA) proposes to update and reissue a DOT Privacy Act System of Records titled, “DOT/FAA 847 Aviation Records on Individuals.” To provide the public with greater transparency and accountability to its business processes and data collection, the FAA updated this Notice to group records more precisely and consolidate records with similar purposes, authorities, categories of individuals, categories of records, records sources, and retention timeframes. Consequently, this Notice now covers only those records the FAA maintains for airman certification and training, including credentials for individuals such as Air Traffic Control Specialists (ATCSs); safety inspections performed by the FAA; and compliance and enforcement actions initiated against individuals who violate FAA statutes and regulations. Additionally, copies of records maintained in systems that are owned and managed by the FAA are also included in this Notice but not referenced specifically as they are not the source systems. Previously, this Notice also covered airmen's medical records and records pertaining to accidents, incidents, and investigations. These records are now covered by two separate and new Systems of Records Notices (SORNs). As for the two new SORNs, the FAA published DOT/FAA 856 (“Airmen Medical Records”) ¹ which covers records maintained for the required airmen medical certification process initiated through the airmen medical certificate application. Additionally, the FAA published DOT/FAA 857 (“Accidents, Incidents and Investigations”) ² which covers records of certificated airmen, remote pilots in command (PICs), non-certificated individuals, and non-airmen, who have been involved in transportation incidents and/or accidents. The breakout of the notices will enable the FAA to provide a more detailed and nuanced description of these records in the respective notices.

¹ Department of Transportation DOT/FAA 856 Airmen Medical Records (88 FR 37301—July 7, 2023).

² Department of Transportation DOT/FAA 857 Accidents, Incidents and Investigations (88 FR 73070—November 24, 2023).

This Notice covers the airmen records for the following processes:

Certification and Training

Airmen certification is the process, as defined by 49 United States Code (U.S.C.) 44703, by which the FAA issues certificates as evidence that an individual is authorized to exercise certain privileges, such as flying aircraft of specific categories. The certification process begins when an individual submits an airman certification application to the FAA for review. For each certificate application type, the individual who is submitting the application must submit the required documentation in accordance with the applicable parts of 14 Code of Federal Regulations (CFR). Once the FAA receives the application, a certifying official will identify the applicant in accordance with the procedures described in the Drug Enforcement Assistance Act of 1988, Public Law 100-690, 102 Stat. 4181 (1988). The certifying official determines if the applicant meets the requested certification type's regulatory eligibility requirements. The certifying official identifies the applicant by viewing the applicant's driver's license, passport, military identification, or other government-issued identification, as provided in applicable parts of 14 CFR. If copies of identification are presented, these records become part of the applicant's file and are retained per the applicable records retention schedule. Thereafter, the certifying official assigns the applicant practical tests, as required, and records the test results. Once the certifying official signs off on the test results and approves the application, the FAA's Airmen Certification Branch reviews all airmen certificate applications and supporting documents and issues certificates to airmen.

A related process is the credentialing of ATCSs (FAA and Department of Defense). Credentialing refers to the ability of these individuals to be rated and hold job positions such as radar and tower specialists. The credentialing process for these ATCSs is governed by FAA Order 8000.90, “Air Traffic Safety Oversight Credentialing and Control Tower Operator Certification Programs” and FAA Order 7720.1, “Certification and Rating Procedures for Department of Defense (DoD) Personnel.” ³ The individuals hired into the FAA for these two job categories are further evaluated by their FAA Proficiency Managers (PMs) and Designated Examiners (DEs) to determine if they can be rated. These individuals provide their name, birth month, work location, and work email before being assigned a credential number by the FAA. If these individuals fail to be rated, they are dismissed from the selection program and their credentials are made inactive. Ratings are valid for not more than two years and are typically renewed during the credential holder's birth month. If ratings are not renewed or individuals are dismissed, the credentials are made inactive and records are retained per the applicable records retention schedule.

³ Orders & Notices (faa.gov).

Safety Inspections

To achieve safety in civil aeronautics, the FAA established regulatory standards and requirements, found in 14 CFR parts 1-199, under the statutory authority in 49 U.S.C. subtitle VII. As part of its aviation oversight responsibilities, the FAA monitors and tracks oversight, inspections, and certification of organizations and individuals. Moreover, the agency captures the overall results of the Aviation Safety Inspectors' (ASIs) inspections and surveillance work. During the inspection/surveillance, the ASIs observe adherence to instructions, procedures, and operations using the relevant federal aviation regulations. The inspections could originate from the ASIs' observations of unsafe practices and discrepancies, notifications by third parties of unsafe operations, or routine surveillance activities.

FAA personnel, such as managers, supervisors, principal inspectors, and others are able to effectively plan the required annual work programs, to prioritize activities and specific job tasks, and to analyze the safety and compliance status of various elements throughout the air transportation industry. The data collected during these inspections may include the airman's full name, address, phone number, fax number, email address, and Airman Certificate Number, which could be the airman's social security number.

The FAA additionally provides safety courses, flight instruction, flight training, seminars, and awards to members of the aviation industry, including airmen (pilots including remote pilots and Aviation Maintenance Technicians), with the aim of lowering the nation's aviation accident rate. The trainings are part of voluntary pilot proficiency and aviation maintenance programs and are provided by industry volunteers as well as FAA personnel.

Enforcement Actions

Generally, enforcement actions begin when investigative personnel issue a Letter of Investigation (LOI) to an individual when it appears that enforcement action is warranted to address that individual's apparent statutory or regulatory violation. The FAA issues LOIs to certificated individuals and to uncertificated individuals (e.g., passengers). An LOI provides the individual with notice that the individual is under investigation for an apparent statutory or regulatory violation. Additionally, an LOI provides the individual with an opportunity to respond to the contents of the letter. Generally, an individual is not required to respond.

Information that the individual provides is included in the Enforcement Investigative Report (EIR) generated by the investigating office. The EIR provides a means to assemble, organize, and present all information relevant to apparent violations and sanction determinations obtained during an investigation in matters for which EIRs are applicable. The investigating office creates the EIR using FAA Form 2150-5. The EIR contains specific information about the alleged violator, which includes their name, mailing address, date of birth, gender, certification number, certificate type, and employer name. The investigating office manually enters details about the alleged violation into the Enforcement Information System (EIS), or the EIS receives this information from other FAA systems. If the investigating office determines that legal enforcement action is required, it electronically transfers the matter, including the EIR, to the FAA Office of the Chief Counsel (AGC) to determine the appropriate course of action. AGC stores the EIR in its Case and Document Management System (CDMS).

Stakeholder Feedback Tracking

FAA employees and external individuals can provide feedback on any Office of Aviation Safety (AVS) business process to the FAA via the following website: https://www.faa.gov/about/office_org/headquarters_offices/avs/stakeholder_feedback. The stakeholder feedback form is used by different organizations within AVS. Only feedback records forwarded to the Quality Assurance Reporting program are covered under this Notice as they are retrievable by an identifier. Other feedback records are not covered under this Notice. Of the quality assurance records covered by this Notice, the personal information included in the feedback could consist of name, phone number, and email address. For example, information provided could be that a specific named employee at a repair station was especially helpful. This could also include the name and contact information of external witnesses to issues that are reported.

Flight Standards Service Document Repository

FAA's Flight Standards Service (FS) and the Office of Hazardous Materials Safety (AXH) will maintain a single data repository to store documents associated with continued operational safety, certification, oversight management, enforcement, and other business processes. Certificate holders' records including manuals and airmen check ride submissions, as well as EIRs are the types of records that would be covered under this Notice. Other records, such as documents related to Accidents and Incidents, would be covered under the Accidents, Incidents and Investigations SORN. Similarly, there may be additional SORNs that apply to the documents maintained in this repository. The types of personal information that could be covered under this Notice consist of but are not limited to, the individual's name, address, phone number, past employment history, and education.

SORN Update

The previous version of this SORN covered additional categories of information and individuals. For purposes of transparency, the FAA removed those categories of records from this updated SORN and has developed two new SORNs (the “Airmen Medical Records” SORN and the “Accidents, Incidents and Investigations” SORN) to better group categories of records. The “Airmen Medical Records” SORN covers all records related to airmen medical certification, including applications and subsequent approvals and rejections. Additionally, it includes drug and alcohol testing records and records relating to test results and refusals to submit to testing. The “Accidents, Incidents and Investigations” SORN covers all records related to general aviation accident/incident records and air carrier incident records. The FAA is updating this existing Notice to remove all references to these records and to make the following substantive changes:

1. System Location: This Notice updates the system location for all of the systems covered by this Notice. All of the addresses listed in the current Notice are hereby removed. However, copies of records may be maintained in hard copy or within systems owned and managed by the FAA.

2. System Manager: This Notice updates the system manager to include relevant contact information for all systems covered under this Notice.

3. Authorities: This Notice updates the authorities to reflect those pertaining to the certification and training, safety inspections, and enforcement action records being covered under this Notice. Additionally, this notice updates the authorities to reflect records collected for stakeholder feedback tracking and the Flight Standards document repository. This update removes the following authorities: 49 United States Code (U.S.C.) 45101, 49 U.S.C. 45102; 49 U.S.C. 45103; 49 U.S.C. 45104; and 49 U.S.C. 45105. This Notice adds the following authorities: 49 Code of Federal Regulations (CFR) part 175.31; and 14 CFR parts 61 and 65.

4. Categories of Individuals: This Notice updates the categories of individuals to reflect the individuals associated with the certification and training, safety inspections, and actions under the FAA's compliance and enforcement program being covered under this Notice. This includes individuals who provide feedback to the FAA on its employees and business processes. This Notice removes any references to individuals who are deceased, individuals now covered by the two new SORNs, and individuals who are not the subjects of the data collection (i.e., employees of drug and alcohol testing facilities, witnesses) who do not have Privacy Act rights to information covered under this SORN.

5. Categories of Records: This Notice updates the categories of records to remove the Compliance and Enforcement Tracking System (CETS) records since they do not require coverage under this or any other Privacy Act Notice as those records are not retrieved by personal identifiers. Other records being removed include those related to drug and alcohol testing, the physical and mental well-being of airmen, reports of fatal accidents, and accident investigations. The Notice additionally removes reference to the Safety Performance Analysis System (SPAS) since the system contains copies of records contained in other systems. The records added to this Notice are the contact information of the airmen's U.S. designated agents for service. These records are not referenced separately but are included under the categories of name, address, email, telephone, and fax number. Additionally, personal information on individuals providing feedback to the FAA is not referenced separately and is included under the categories of name, telephone number, email address, employer name, mailing address, and tracking number. Finally, copies of identifying documents retained in airmen files are added to this Notice.

6. Record Source Categories: This Notice updates the record source categories to reflect only those record sources of airmen certification and training, safety inspections, and compliance and enforcement records. The record sources being removed from this Notice include those pertaining to medical records and drug and alcohol testing records and test results, and those pertaining to aviation accident/incident records. This Notice adds the Office of Commercial Space Transportation personnel and Office of Airports personnel as new sources of compliance and enforcement action records. Additionally, the Notice adds individuals providing feedback to the FAA.

7. Routine Use: The Notice updates the routine uses to remove the following system-specific routine uses because they are no longer applicable to this Notice:

(a) Use contact information to inform airmen of meetings and seminars conducted by the FAA regarding aviation safety; and

(b) Provide information about airmen through the airmen registry certification system to the Department of Health and Human Services, Office of Child Support Enforcement, and the Federal Parent Locator Service that locates non-custodial parents who owe child support. Records in this system are used to identify airmen to the child support agencies nationwide in enforcing child support obligations, establishing paternities, establishing and modifying support orders, and location of obligors. Records named within the section on Categories of Records will be retrieved using “Connect: Direct” through the Social Security Administration's secure environment.

The routine uses transferred to the Airmen Medical Records SORN and removed from this Notice are as follows:

(a) Providing the following categories of information to the public upon request:

• Information relating to an individual's physical status or condition used to determine statistically the validity of FAA medical standards;

(b) Information relating to an individual's eligibility for medical certification, requests for exemption from medical requirements, and requests for review of certificate denials;

(c) Make records of an individual's positive drug test result, alcohol test result of 0.04 or greater breath alcohol concentration, or refusal to submit to testing required under a DOT-required testing program, available to third parties, including employers and prospective employers of such individuals. Such records will also contain the names and titles of individuals who, in their commercial capacity, administer the drug and alcohol testing programs of aviation entities;

(d) Make personally identifiable information about airmen available to other Federal agencies for the purpose of verifying the accuracy and completeness of medical information provided to FAA in connection with applications for airmen medical certification; and

(e) Make records of past airman medical certification history data available to Aviation Medical Examiners (AMEs) on a routine basis so that AMEs may render the best medical certification decision.

The routine use transferred to the Accidents, Incidents and Investigations SORN and removed from this Notice is as follows:

• Make airman, aircraft, and operator record elements available to users of FAA's Skywatch system, including the Department of Defense (DoD), the Department of Homeland Security (DHS), the Department of Justice (DOJ) and other authorized government users, for their use in managing, tracking, and reporting aviation-related security events.

DOT has included Departmental general routine uses in this Notice, as they align with the purpose of this system of records to support decision-making and regulatory enforcement activities related to medical certification of airmen. As recognized by the Office of Management and Budget (OMB) in its Privacy Act Implementation Guidance and Responsibilities (65 FR 19746 (July 9, 1975)), the routine uses include proper and necessary uses of information in the system, even if such uses occur infrequently.

8. Records Retrieval: This notice updates the retrievability of records to remove docket number, medical identification number, accident number and/or incident number, and add retrievability by FAA Tracking Number (FTN) and credential number.

9. Retention and Disposal: This Notice updates retention requirements to add all retention schedules for the systems requiring coverage. It removes the reference to FAA Order 1350.15C, Records Organization, Transfer and Destruction Standards in the current Notice.

10. Records Access: This Notice updates records access procedures to reflect that signatures on signed requests for records must either be notarized or accompanied by a statement made under penalty of perjury in compliance with 28 U.S.C. 1746.

The following non-substantive changes to the administrative, technical, and physical safeguards, contesting records procedures, and notification procedures have been made to improve the clarity and readability of the Notice.

1. Administrative, Technical and Physical Safeguards: This Notice updates the administrative, technical, and physical safeguards to align with the requirements of OMB Circular A-108 and for consistency with other DOT/FAA SORNs.

2. Contesting Records: This Notice updates the procedures for contesting records to refer the reader to the record access procedures section rather than the “System Manager.”

3. Notification: This Notice updates the notification procedures to refer the reader to the record access procedures section rather than the “System Manager.”

Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records Notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information). In accordance with 5 U.S.C. 552a(r), DOT has provided a report of this system of records to the Office of Management and Budget and to Congress.

SYSTEM NAME AND NUMBER:

Department of Transportation, Federal Aviation Administration, DOT/FAA 847—Aviation Records on Individuals.

SECURITY CLASSIFICATION:

Sensitive, unclassified

SYSTEM LOCATION:

1. Air traffic safety specialist credentialing records: FAA Cloud Services Amazon Web Services (FCS AWS) East West Public Cloud and the Office of Information and Technology Services Enterprise Data Center (AIT EDC) Mike Monroney Aeronautical Center (MMAC), 6500 South MacArthur Boulevard, Oklahoma City, OK 73169;

2. Airmen testing records: PSI Services LLC's DataBank Data Center at 731 W. Henry Street, Indianapolis, IN 46225;

3. Airmen certification records: Civil Aviation Registry Applications, FAA Enterprise Data Center (EDC) Airmen Records Building (ARB) at the MMAC, 6500 South MacArthur Boulevard, Oklahoma City, OK 73169 and in the Enterprise Architecture and Solutions Environment (EASE) Mainframe, which resides at the U.S. Department of Agriculture (USDA) National Information Technology Center (NITC) in Kansas City, MO 64114;

4. Enforcement Investigation Reports maintained by the Office of the Chief Counsel: located in the FAA Cloud Services Amazon Web Services (FCS AWS) East West Public Cloud;

5. Information on regulated entities such as air carriers, air agencies and various types of airmen: Office of Information and Technology Services Enterprise Data Center (AIT EDC) at the MMAC, 6500 South MacArthur Boulevard, Oklahoma City, OK 73169;

6. Information on enforcement actions for statutory or regulatory violations concerning the operation and maintenance of aircraft, airports, and aircraft equipment by individual airman, air passengers, or certified companies: FAA Office of Information and Technology Services Enterprise Data Center (AIT EDC) at the MMAC, 6500 South MacArthur Boulevard, Oklahoma City, OK 73169;

7. Information on individuals such as inspection authorization holders and airmen: FAA Office of Information and Technology Services Enterprise Data Center (AIT EDC) at the MMAC, 6500 South MacArthur Boulevard, Oklahoma City, OK 73169;

8. Information on activity tracking of airmen performing flight safety operations such as flight crewmember qualifications: FAA Enterprise Data Center Airmen Records Building (EDCARB) at the MMAC, 6500 South MacArthur Boulevard, Oklahoma City, OK 73169;

9. Training and awards records: FAA Office of Information and Technology Services Enterprise Data Center (AIT EDC) at the MMAC, 6500 South MacArthur Boulevard, Oklahoma City, OK 73169;

10. Airmen certificate and registration document tracking records: FAA Office of Information and Technology Services Enterprise Data Center (AIT EDC) at the MMAC, 6500 South MacArthur Boulevard, Oklahoma City, OK 73169;

11. Safety assurance records: MMAC, 6500 South MacArthur Boulevard, Oklahoma City, OK 73169; AWS US East; and Volpe National Transportation Systems Center, 55 Broadway, Cambridge, MA 02142; and

12. Quality assurance reporting records: located in the FCS AWS East West Cloud.

SYSTEM MANAGER(S) AND ADRESSES:

1. Air traffic safety specialist credentialing records: System Manager, AOV-240, FAA Headquarters, 800 Independence Avenue SW, Washington, DC 20591, Email: 9-AVS-AOV-Support@faa.gov;

2. Airmen testing records: ATLAS AAV System Manager, FAA Airman Testing Standards Branch, AFS-630, MMAC, 6500 South MacArthur Boulevard, Oklahoma City, OK 73169, Email: AirmanKnowledgeTesting@faa.gov;

3. Airmen certification records: Civil Aviation Registry Applications, Manager, FAA Airmen Certification Branch, AFB-720 Federal Aviation Administration, MMAC, PO Box 25082, Oklahoma City, OK 73125, Email: 9-AMC-AFS760-Airmen@faa.gov;

4. Enforcement Investigation Reports maintained by the Office of the Chief Counsel: Manager, FAA AGC-10 Operation Division, 1701 Columbia Avenue, College Park, GA 30337, Email: 9-AGC-IT@faa.gov;

5. Information on regulated entities such as air carriers, air agencies and various types of airmen: Manager, FAA SASO Program Office, Safety Analysis and Promotion Division, 13873 Park Center Road, Suite 160, Herndon, VA 20171, Email: 9-AWA-AFS-900-SASO@faa.gov;

6. Information about enforcement actions for statutory or regulatory violations concerning the operation and maintenance of aircraft, airports, and aircraft equipment by individual airman, air passengers, or certified companies: Manager, FAA Safety Analysis and Promotion Division, Automation Systems Management Branch, AFS-950, 13873 Park Center Road, Suite 160, Herndon, VA 20171, Email: 9-avs-afs-cpft@faa.gov;

7. Information on individuals such as inspection authorization holders and airmen: Manager, FAA SASO Program Office, Safety Analysis and Promotion Division, 13873 Park Center Road, Suite 160, Herndon, VA 20171, Email: 9-AWA-AFS-900-SASO@faa.gov;

8. Information on activity tracking of airmen performing flight safety operations such as flight crewmember qualifications: Manager, FAA—Air Traffic Organization Branch, AJF-2131 Federal Aviation Administration, Ronald Reagan Washington National Airport Hanger 6, 3201 Thomas Avenue, Washington, DC 20001, Email: AMC-AJF-2131-FACTS@FAA.GOV;

9. Training and awards records: FAA Flight Standards Service, FAA Office of Safety Standards, General Aviation and Commercial Division, Room 821, 800 Independence Avenue SW, Washington, DC 20591, Email: faasafety@faa.gov;

10. Airmen certificate and registration document tracking records: Manager, FAA Airmen Certification Branch Manager, 6425 South Denning Avenue, Oklahoma City, OK 73169, Email: 9-AMC-AFS760-Airmen@faa.gov;

11. Safety assurance records: Information Technology (IT) Project Manager, FAA, 2245 Airport Boulevard, Santa Rosa, CA 95403, Email: SAS-POC@faa.gov; and

12. Quality assurance reporting records: System Manager, FAA Orlando FSDO, 8427 Southpark Circle, Orlando, FL 32819, Phone: 866-835-5322.

AUTHORITY FOR MAINTENANCE OF THE SYSTEM:

49 U.S.C. 40101; 49 U.S.C. 40113; 49 U.S.C. 44701; 49 U.S.C. 44702; 49 U.S.C. 44703; 49 U.S.C. 44709; 49 U.S.C. 45106; 49 U.S.C. 46301; 49 CFR part 175.31; and 14 CFR parts 61 and 65.

PURPOSE(S) OF THE SYSTEM:

This system is the official repository of aviation records on individuals that are required to be maintained in connection with FAA's oversight and enforcement of compliance with safety regulations and statutes and orders issued thereunder.

CATEGORIES OF INDIVIDUALS COVERED BY THE SYSTEM:

Individuals who hold or previously held airmen certificates, and applicants for airmen certificates; Air traffic controllers and applicants for these positions; Individuals who submit feedback to the FAA; and Individuals against whom FAA has initiated informal action, compliance action, administrative action or legal enforcement action for violating safety regulations and statutes or orders issued thereunder.

CATEGORIES OF RECORDS IN THE SYSTEM:

Personal information records such as name, date of birth, place of residence, mailing address, email address, telephone number, fax number, employer name, signature, social security number, citizenship, nationality and country, gender, biometric information (height, weight, hair color, eye color), self-portrait image, educational records, employment records, criminal history, Taxpayer Identification Number (TIN)/Employer Identification Number (EIN), copies of identifying documents presented during the application process; Certification-related records such as applications for certification, airman certificate number, credential number, applications for tests, results of tests, applications for inspection authority, certificates held, ratings, certification dates, certification types, titles, stop orders, and requests for replacement certificates, contractor designator, designator examiner number; flight instructor number, training records, inspector's Flight Standards District Office (FSDO) code; Records concerning safety compliance notices, compliance actions, informal actions, warning notices, oral or written counseling, letters of correction, letters of investigation, notices of proposed legal enforcement action, final action legal documents in enforcement actions, and correspondence with the Office of the Chief Counsel and others in enforcement cases; and Other identifier records such as DoD identification number (ID), FTN, payment authorization code, generated control number, Office of Aviation System Standards Unique Identifier (AVN UID), tracking number and FAA ID.

RECORD SOURCE CATEGORIES:

Airmen certification records are obtained from the individual to whom the records pertain, FAA aviation safety inspectors and FAA designated representatives; Feedback received by the FAA are obtained from both employees and external individuals; and Records of informal action, compliance action, administrative action, and legal enforcement records are obtained from witnesses, the Office of the Chief Counsel, Office of Security and Hazardous Materials (ASH) personnel, Flight Standards personnel, Office of Aviation Safety (AVS) personnel, Office of Commercial Space Transportation personnel, Office of Airports personnel, Aeronautical Center personnel, and the National Transportation Safety Board.

ROUTINE USES OF RECORDS MAINTAINED IN THE SYSTEM, INCLUDING CATEGORIES OF USERS AND THE PURPOSES OF SUCH USES:

In addition to those disclosures generally permitted 5 U.S.C. 552a(b) of the Privacy Act, all or a portion of the records or information contained in this system may be disclosed outside of DOT FAA as a routine use pursuant to 5 U.S.C. 552a(b)(3) as follows:

System Specific Routine Uses:

1. Provide basic airmen certification and qualification information to the public upon request; examples of basic information include:

• The type of certificates and ratings held;

• The date, class, and restrictions of the latest physical airman's certificate number;

• The status of the airman's certificate (i.e., whether it is current or has been amended, modified, suspended or revoked for any reason);

• The airman's home address, unless requested by the airman to be withheld from public disclosure per 49 U.S.C. 44703(c); and

• Requests for review of certificate denials.

2. Disclose information to the National Transportation Safety Board (NTSB) in connection with its investigation responsibilities.

3. Provide information about airmen to Federal, State, local, and Tribal law enforcement agencies when engaged in an official investigation in which an airman is involved.

4. Provide information about enforcement actions or orders issued thereunder to government agencies, the aviation industry, and the public upon request;

5. Make records of delinquent civil penalties owed to the FAA available to the U.S. Department of the Treasury (Treasury) and the U.S. Department of Justice (DOJ) for collection pursuant to 31 U.S.C. 3711(g).

6. Make records of effective orders against the certificates of airmen available to their employers if the airmen use the affected certificates to perform job responsibilities for those employers.

7. Make airmen records available to users of FAA's Safety Performance Analysis System (SPAS), including the Department of Defense Commercial Airlift Division's Air Carrier Analysis Support System (ACAS) for its use in identifying safety hazards and risk areas, targeting inspection efforts for certificate holders of greatest risk, and monitoring the effectiveness of targeted oversight actions.

8. Provide information about airmen to Federal, State, local, and Tribal law enforcement, national security or homeland security agencies whenever such agencies are engaged in the performance of threat assessments affecting the safety of transportation or national security.

Departmental Routine Uses:

1. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

2. A record from this system of records may be disclosed, as a routine use, to a Federal, State, or local agency maintaining civil, criminal, or other relevant enforcement information or other pertinent information, such as current licenses, if necessary to obtain information relevant to a DOT decision concerning the hiring or retention of an employee, the issuance of a security clearance, the letting of a contract, or the issuance of a license, grant or other benefit.

3. A record from this system of records may be disclosed, as a routine use, to a Federal agency, in response to its request, in connection with the hiring or retention of an employee, the issuance of a security clearance, the reporting of an investigation of an employee, the letting of a contract, or the issuance of a license, grant, or other benefit by the requesting agency, to the extent that the information is relevant and necessary to the requesting agency's decision on the matter.

12a. Routine Use for Disclosure for Use in Litigation. It shall be a routine use of the records in this system of records to disclose them to the Department of Justice or other Federal agency conducting litigation when (a) DOT, or any agency thereof, or (b) Any employee of DOT or any agency thereof, in his/her official capacity, or (c) Any employee of DOT or any agency thereof, in his/her individual capacity where the Department of Justice has agreed to represent the employee, or (d) The United States or any agency thereof, where DOT determines that litigation is likely to affect the United States, is a party to litigation or has an interest in such litigation, and the use of such records by the Department of Justice or other Federal agency conducting the litigation is deemed by DOT to be relevant and necessary in the litigation, provided, however, that in each case, DOT determines that disclosure of the records in the litigation is a use of the information contained in the records that is compatible with the purpose for which the records were collected.

12b. Routine Use for Agency Disclosure in Other Proceedings. It shall be a routine use of records in this system to disclose them in proceedings before any court or adjudicative or administrative body before which DOT or any agency thereof, appears, when (a) DOT, or any agency thereof, or (b) Any employee of DOT or any agency thereof in his/her official capacity, or (c) Any employee of DOT or any agency thereof in his/her individual capacity where DOT has agreed to represent the employee, or (d) The United States or any agency thereof, where DOT determines that the proceeding is likely to affect the United States, is a party to the proceeding or has an interest in such proceeding, and DOT determines that use of such records is relevant and necessary in the proceeding, provided, however, that in each case, DOT determines that disclosure of the records in the proceeding is a use of the information contained in the records that is compatible with the purpose for which the records were collected.

13. The information contained in this system of records will be disclosed to the Office of Management and Budget, OMB in connection with the review of private relief legislation as set forth in OMB Circular No. A-19 at any stage of the legislative coordination and clearance process as set forth in that Circular.

14. Disclosure may be made to a Congressional office from the record of an individual in response to an inquiry from the Congressional office made at the request of that individual. In such cases, however, the Congressional office does not have greater rights to records than the individual. Thus, the disclosure may be withheld from delivery to the individual where the file contains investigative or actual information or other materials which are being used, or are expected to be used, to support prosecution or fines against the individual for violations of a statute, or of regulations of the Department based on statutory authority. No such limitations apply to records requested for Congressional oversight or legislative purposes; release is authorized under 49 CFR 10.35(a)(9).

15. One or more records from a system of records may be disclosed routinely to the National Archives and Records Administration in records management inspections being conducted under the authority of 44 U.S.C. 2904 and 2906.

16. Routine Use for disclosure to the Coast Guard and to the Transportation Security Administration. A record from this system of records may be disclosed as a routine use to the Coast Guard and to the Transportation Security Administration if information from this system was shared with either agency when that agency was a component of the Department of Transportation before its transfer to the Department of Homeland Security and such disclosure is necessary to accomplish a DOT, TSA or Coast Guard function related to this system of records.

17. DOT may make available to another agency or instrumentality of any government jurisdiction, including State and local governments, listings of names from any system of records in DOT for use in law enforcement activities, either civil or criminal, or to expose fraudulent claims, regardless of the stated purpose for the collection of the information in the system of records. These enforcement activities are generally referred to as matching programs because two lists of names are checked for match using automated assistance. This routine use is advisory in nature and does not offer unrestricted access to systems of records for such law enforcement and related antifraud activities. Each request will be considered on the basis of its purpose, merits, cost-effectiveness, and alternatives using Instructions on reporting computer matching programs to the Office of Management and Budget, OMB, Congress, and the public, published by the Director, OMB, dated September 20, 1989.

18. It shall be a routine use of the information in any DOT system of records to provide to the Attorney General of the United States, or his/her designee, information indicating that a person meets any of the disqualifications for receipt, possession, shipment, or transport of a firearm under the Brady Handgun Violence Prevention Act. In case of a dispute concerning the validity of the information provided by DOT to the Attorney General, or his/her designee, it shall be a routine use of the information in any DOT system of records to make any disclosures of such information to the National Background Information Check System, established by the Brady Handgun Violence Prevention Act, as may be necessary to resolve such dispute.

19a. To appropriate agencies, entities, and persons when (1) DOT suspects or has confirmed that there has been a breach of the system of records; (2) DOT has determined that as a result of the suspected or confirmed breach there is a risk of harm to individuals, DOT (including its information systems, programs, and operations), the Federal Government, or national security; and (3) the disclosure made to such agencies, entities, and persons is reasonably necessary to assist in connection with DOT's efforts to respond to the suspected or confirmed breach or to prevent, minimize, or remedy such harm.

19b. To another Federal agency or Federal entity, when DOT determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

20. DOT may disclose records from this system, as a routine use, to the Office of Government Information Services for the purpose of (a) resolving disputes between FOIA requesters and Federal agencies and (b) reviewing agencies' policies, procedures, and compliance in order to recommend policy changes to Congress and the President.

21. DOT may disclose records from this system, as a routine use, to contractors and their agents, experts, consultants, and others performing or working on a contract, service, cooperative agreement, or other assignment for DOT, when necessary to accomplish an agency function related to this system of records.

22. DOT may disclose records from this system, as a routine use, to an agency, organization, or individual for the purpose of performing audit or oversight operations related to this system of records, but only such records as are necessary and relevant to the audit or oversight activity. This routine use does not apply to intra-agency sharing authorized under section (b)(1) of the Privacy Act.

23. DOT may disclose from this system, as a routine use, records consisting of, or relating to, terrorism information (6 U.S.C. 485(a)(5)), homeland security information (6 U.S.C. 482(f)(1)), or law enforcement information (Guideline 2 Report attached to White House Memorandum, “Information Sharing Environment, November 22, 2006) to a Federal, State, local, Tribal, Territorial, foreign government and/or multinational agency, either in response to its request or upon the initiative of the Component, for purposes of sharing such information as is necessary and relevant for the agencies to detect, prevent, disrupt, preempt, and mitigate the effects of terrorist activities against the territory, people, and interests of the United States of America, as contemplated by the Intelligence Reform and Terrorism Prevention Act of 2004 (Pub. L. 108-458) and Executive Order 13388 (October 25, 2005).

POLICIES AND PRACTICES FOR STORAGE OF RECORDS:

Records are maintained in file folders, on lists and forms, and in computer processing storage media. Records are also stored on microfiche, on roll microfilm, and as electronic images.

POLICIES AND PRACTICES FOR RETRIEVAL OF RECORDS:

Records are primarily retrievable by name, birth date, social security number, airman certificate number, EIR number, FTN, credential number, email address, home address, or other identification numbers of the individual on whom the records are maintained.

POLICIES AND PRACTICES FOR RETENTION AND DISPOSAL OF RECORDS:

The retention schedules for the individual systems are as follows:

Air traffic safety specialist credentialing records: the records are covered by retention schedule DAA-0237-2021-0007-0001 and destroyed 70 years at the end of the last credentialing certification, rating, training requirements, and skill evaluation; Airmen testing records: the FAA has proposed a replacement retention schedule to provide a longer retention period of five years for both airman test applications and completed tests. The current retention schedule, NC1-237-77-03, Items 21-23, requires retention for four years for applications and 60 days for completed tests. The FAA will comply with the current retention schedule until it receives approval of record disposition authority for the retention request; Airmen certification records: is designated as the permanent record for airmen certification information and, as such, records are covered by retention schedule N1-237-06-001 and destroyed after 60 years or when no longer needed, whichever is later; Enforcement Investigation Reports maintained by the Office of the Chief Counsel: these records are covered under N1-237-92-004 and transferred to the Federal Records Center (FRC) two years after cases are closed in EIS. The FRC destroys records five years after they are closed in EIS. Case files resulting in “no action” are destroyed 30 days (or no later than 90 days) after cases are closed in EIS. Case files resulting in an indefinite suspension of an airman certificate pending successful completion of reexamination or proof of qualification are destroyed one month after the date of successful completion of reexamination or proof of qualifications; Information on regulated entities such as air carriers, air agencies and various types of airmen: the records will be covered under retention schedule DAA-0237-2022-0005-0002 and retained for at least 30 years, but longer retention is authorized if necessary for business use; Information about enforcement actions for statutory or regulatory violations concerning the operation and maintenance of aircraft, airports, and aircraft equipment by individual airmen, air passengers, or certified companies: the FAA has drafted a retention schedule, DAA-0237-2021-0014, to provide a retention period of 99 years for airmen records. This schedule will replace the current schedule that allows destruction within a shorter timeframe. The FAA will maintain these records indefinitely until it receives an approval of record disposition authority for the retention request; Information on individuals such as inspection authorization holders and airmen: the FAA is developing a new retention schedule and will treat these records as permanent records until it receives an approval of record disposition authority for the retention request; Information on activity tracking of airmen performing flight safety operations such as flight crewmember qualifications: the records will be covered under retention schedule DAA-0237-2020-0029-0001. Pursuant to this schedule, the FAA maintains these records for three years after the relevant flight activity is no longer needed;

Training and awards records: the FAA is developing a new retention schedule and proposes to maintain the records for six years of inactivity. The FAA will treat these records as permanent records until it receives an approval of record disposition authority for the retention request;

Airmen certificate and registration document tracking records: is designated as the temporary repository for airmen registration and application data and, as such, the records are covered under retention schedule N1-237-09-014 and deleted/destroyed once the forms or related applications are superseded or obsolete; Safety assurance records: the FAA is developing a new retention schedule and will treat these records as permanent records until it receives an approval of record disposition authority for the retention request; and Quality assurance reporting records: the FAA is developing a new retention schedule and will treat these records as permanent records until it receives an approval of record disposition authority for the retention request.

ADMINISTRATIVE, TECHNICAL, AND PHYSICAL SAFEGUARDS:

Records in this system are safeguarded in accordance with applicable rules and policies, including all applicable DOT FAA automated systems security and access policies. Strict controls have been imposed to minimize the risk of compromising the information that is being stored. Access to the computer system containing the records in this system is limited to individuals who have a need to know the information for the performance of their official duties and who have appropriate clearances or permissions.

RECORD ACCESS PROCEDURES:

Individuals seeking notification of whether this system of records contains information about them may contact the System Manager at the address provided in the section “System Manager.” When seeking records about yourself from this system of records or any other Departmental system of records your request must conform to the Privacy Act regulations set forth in 49 CFR part 10. You must sign your request, and your signature must either be notarized or submitted under 28 U.S.C. 1746, a law that permits statements to be made under penalty of perjury as a substitute for notarization. If your request is seeking records pertaining to another living individual, you must include a statement from that individual certifying his/her agreement for you to access his/her records.

CONTESTING RECORDS PROCEDURES:

See “Record Access Procedures” above.

NOTIFICATION PROCEDURES:

See “Record Access Procedures” above.

EXEMPTIONS PROMULGATED FOR THE SYSTEM:

Records in this system that relate to administrative actions and legal enforcement actions are exempted from certain access and disclosure requirements of the Privacy Act of 1974, pursuant to 5 U.S.C. 552a(k)(2).

HISTORY:

A full notice of this system of records, DOT/FAA 847—Aviation Records of Individuals, was published in the Federal Register on November 9, 2010 (75 FR 68849).

Issued in Washington, DC.
Karyn Gorman,
Departmental Chief Privacy Officer.

[FR Doc. 2024-12595 Filed 6-7-24; 8:45 am]

BILLING CODE 4910-9X-P